DEPARTMENT OF LABOR

Employment and Training Administration

[TA-W-60,266]

Hanesbrands, Inc., Formerly Known as Sara Lee Corporation, Trading as L'eggs Products Marion Plant, Marion, SC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 7, 2006, applicable to workers of Hanesbrands, Inc., Marion, South Carolina. The notice was published in the Federal Register on November 28, 2006 (71 FR 68844).

At the request of the State agency, the Department reviewed the certification for workers of the subject firm. The workers are engaged in activities related to the production of hosiery. The Department inadvertently omitted in this certification that the firm was formerly known as Sara Lee Branded Apparel. Specifically, the State reports that the workers wages were reported under the Federal Employment Identification Number (FEIN) for Sara Lee Corporation, Trading As L'eggs Products Marion Plant.

Accordingly, the Department is amending the certification to include workers whose wages were reported under the FEIN for Sara Lee.

The amended notice applicable to TA-W-60,266 is hereby issued as follows:

All workers of Hanesbrands, Inc., formerly known as Sara Lee Corporation, Trading as L'eggs Products Marion Plant, Marion, South Carolina, who became totally or partially separated from employment on or after October 13, 2005 through November 7, 2008, are eligible to apply for adjustment assistance under Section 223 of the Trade Act of 1974, and are also eligible to apply for alternative trade adjustment assistance under Section 246 of the Trade Act of 1974.

Signed at Washington, DC this 1st day of December, 2006.
Linda G. Poole,
Certifying Officer, Division of Trade Adjustment Assistance.

[FR Doc. E6-21254 Filed 12-13-06; 8:45 am]

BILLING CODE 4510-30-P